DEPARTMENT OF AGRICULTURE

Forest Service

Tehama County Resource Advisory Committee

AGENCY: Forest Service, USDA.

ACTION: Notice of meeting.

SUMMARY: The Tehama County Resource Advisory Committee (RAC) will hold its fifth meeting.

DATES: The meeting will be held on June 13, 2002, and will begin at 9 a.m. and end at approximately 12 p.m.

ADDRESSES: The meeting will be held at the Lincoln Street School, Conference Room A, 1135 Lincoln Street, Red Bluff, CA.

FOR FURTHER INFORMATION CONTACT: Bobbin Gaddini, Committee Coordinator, USDA, Mendocino National Forest, Grindstone Ranger District, P.O. Box 164, Elk Creek, CA 95939. (530) 968-5329; EMAIL ggaddini@fs.fed.us.

SUPPLEMENTARY INFORMATION: Agenda items to be covered include: (1) Introductions, (2) Presentation of By-Laws for Approval, (3) Fire Safe Council Report (4) Project Presentations w/Possible Preliminary Selection, (5) General Discussion, (6) Public Comment, (7) Next Agenda. The meeting is open to the public. Public input opportunity will be provided and individuals will have the opportunity to address the Committee at that time.

Dated: May 16, 2002.
James F. Giachino,
Designated Federal Official.

[FR Doc. 02-12780 Filed 5-21-02; 8:45 am]

BILLING CODE 3410-11-M